DEPARTMENT OF ENERGY

Western Area Power Administration

Proposed Allocation of the Post-2004 Resource Pool-Salt Lake City Area Integrated Projects

AGENCY: Western Area Power Administration, DOE.

ACTION: Notice of public meeting.

SUMMARY: The Western Area Power Administration (Western), a Federal power marketing administration, announced its Post-2004 Resource Pool-Salt Lake City Area Integrated Projects (SLCA/IP) Proposed Allocation of Power on June 13, 2001. Western has decided to hold an additional public information and comment meeting during the comment period.

DATES: The consultation and comment period on Western's proposed allocations began on June 13, 2001, and will end on October 11, 2001.

An information/comment meeting has been scheduled on October 4, 2001, in Salt Lake City, Utah, at the Wallace F. Bennet Federal Building at 10 a.m. MDT.

ADDRESSES: The meeting will be held at 125 South State Street, Room 8102, Salt Lake City, UT. All comments regarding the Proposed Allocation of Power should be directed to: Mr. Burt Hawkes, Power Marketing and Contracts, CRSP Management Center, Western Area Power Administration, P.O. Box 11606, Salt Lake City, UT 84147-0606. Comments may also be faxed to (801) 524-5017 or emailed to post2004slcip@wapa.gov.

FOR FURTHER INFORMATION CONTACT: Mr. Burt Hawkes, Power Marketing and Contracts, (801) 524-3344, or Mr. Lyle Johnson, Public Utilities Specialist, (801) 524-5585. Written requests for information should be sent to CRSP Management Center, Western Area Power Administration, P.O. Box 11606, Salt Lake City, UT 84147-0606.

SUPPLEMENTARY INFORMATION: On June 13, 2001, Western published a notice of proposed allocation from the SLCA/IP resource pool (66 FR 31910). That document anticipated that the location and times of four public meetings would be announced through a subsequent Federal Register document. Inadvertently, the notice announcing dates, times, and locations of the information and comment meetings on the proposed allocations was not published in the Federal Register, although notice of the August meetings was extensively distributed directly to and among all known interested parties. Formal records have been kept of each meeting, and are available to the public upon payment of the cost of transcription and duplication. However, to avoid any procedural issues, this notice announces the date, time, and location of an additional meeting. The format of the meeting will feature an informal presentation to explain Western's proposed allocation and answer questions, followed by a formal comment forum giving interested parties the opportunity to provide comments on Western's proposed allocations. This is the same format used in the meetings that have already been held.

Dated: August 14, 2001.
Michael S. Hacskaylo,
Administrator.

[FR Doc. 01-21571 Filed 8-24-01; 8:45 am]

BILLING CODE 6450-01-P